DEPARTMENT OF ENERGY

Federal Energy Regulatory Commission

[Docket Nos. EL21-40-000 and TX21-1-000]

Athens Utilities Board, Gibson Electric Membership Corporation, Joe Wheeler Electric Membership Corporation, Volunteer Energy Cooperative v. Tennessee Valley Authority; Notice of Complaint

Take notice that, on January 11, 2021, Athens Utilities Board, Gibson Electric Membership Corporation, Joe Wheeler Electric Membership Corporation, and Volunteer Energy Cooperative (Complainants) filed a formal complaint against Tennessee Valley Authority (TVA or Respondent), pursuant to sections 211A, 306, 307, 308, and 309 of the Federal Power Act (FPA), and 18 CFR 386.206, requesting that the Federal Energy Regulatory Commission (Commission) exercise its authority under FPA section 211A to order TVA to provide unbundled transmission service at rates and on terms and conditions that are comparable to those under which TVA provides transmission services to itself and that are not unduly discriminatory or preferential. Complainants further request that the Commission exercise its authority under FPA section 210 to formalize the interconnection arrangements between Complainants and TVA in order to facilitate the provision of transmission service ordered under FPA section 211A, all as more fully explained in the complaint.

The Complainants certify that copies of the complaint were served on the contacts listed for Respondent in the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission strongly encourages electronic filings of comments, protests and interventions in lieu of paper using the “eFiling” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov, or call toll-free, (886) 208-3676 or TYY, (202) 502-8659.

Comment Date: 5:00 p.m. Eastern Time on February 1, 2021.

Dated: January 19, 2021.
Kimberly D. Bose,
Secretary.

[FR Doc. 2021-01611 Filed 1-25-21; 8:45 am]

BILLING CODE 6717-01-P